ENVIRONMENTAL PROTECTION AGENCY

[EPA-HQ-TRI-2009-0614; FRL-8948-8]

Toxic Chemical Release Reporting; Community Right-To-Know; Request for Comment on Change of Contractor Handling Trade Secret Claims

AGENCY: Environmental Protection Agency (EPA).

ACTION: Notice.

SUMMARY: This notice announces an upcoming change in location and contractor designated to manage the Toxics Release Inventory (TRI) data processing for all TRI submissions including TRI Trade Secret and confidential information submitted. Under Section 322 of the Emergency Planning and Community Right-to- Know Act, facilities submitting TRI reports may be eligible to claim Trade Secret for the specific chemical identity of a toxic chemical being reported. Information entitled to trade secret or confidential treatment may not be disclosed by the Agency to the Agency's authorized representative until each affected submitter has been furnished notice of the contemplated disclosure by the EPA program office and has been afforded opportunity to submit its comments. This Federal Register provides notice that EPA's authorized representative is changing and provides the public an opportunity to comment on this action. Limit your comments to the change of contractor handling trade secret and confidential information submitted to TRI under Emergency Planning and Community Right-to- Know reporting requirements.

DATES: Comments should be submitted by August 31, 2009.

ADDRESSES: EPA has established a docket for this action under EPA-HQ-TRI-2009-0614. All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the OEI Docket, EPA/DC, EPA West, Room B102, 1301 Constitution Ave., NW., Washington, DC. The Public Reading Room is open from 8:30 a.m. to 4:30 p.m., Monday through Friday, excluding legal holidays. The telephone number for the Public Reading Room is 202-566-1744, and the telephone number for the OEI Docket is 202-566-1752.

FOR FURTHER INFORMATION CONTACT: For general information, contact The Emergency Planning and Community Right-to-Know Hotline at Environmental Protection Agency, Mail Code 5101, 1200 Pennsylvania Ave., NW., Washington, DC 20460, Toll free: 1-800-424-9346, in Virginia and Alaska: 703-412-9810, Toll free TDD: 1-800-553-7672., or http://www.epa.gov/epaoswer/hotline/. For technical information about this change in contractor and location for TRI data processing, contact: Peggy Bagnoli, Toxics Release Inventory Program Division, OEI (2844T), Environmental Protection Agency, 1200 Pennsylvania Ave., NW., Washington, DC 20460, Telephone: 202-566-1230; Fax: 202-566-0727; e-mail: bagnoli.peggy@epa.gov. Effective July 30, 2009, certified mail should be sent to CGI Federal, C/O CDX Reporting Center, 12601 Fair Lakes Circle, Fairfax, VA 22033. All other submissions should be sent to the TRI Reporting Center, P.O. Box 10163, Fairfax, VA 22038.

SUPPLEMENTARY INFORMATION:

I. Does This Notice Apply to Me?

A. Affected Entities: Entities that will be affected by this action are those facilities that manufacture, process, or otherwise use certain toxic chemicals listed on the Toxics Release Inventory (TRI) and which are required under section 313 of the Emergency Planning and Community Right-to-Know Act (EPCRA) of 1986, to report annually to EPA their environmental releases of such chemicals. Currently, those industries with the following NAICS code designations (that meet all other threshold criteria for TRI reporting) must report toxic chemical releases and other waste management activities: 11—Agriculture, Forestry, Fishing and Hunting (except for NAICS Code 111998); 21—Mining, Quarrying, and Oil and Gas Extraction (except for NAICS Codes 211112, 212324, 212325, 212393, and 212399); 22—Utilities (except for NAICS Codes 221111, 221112, 221113, 221119, 221121, 221122); 31-33—Manufacturing (except for NAICS Codes 311, 312, 313, 314, 315, 323, 325, 326, 327, 334, 335, 337, and 339); 42—Wholesale Trade; 48-49—Transportation and Warehousing (except for NAICS Code 488390); 51—Information (except for NAICS Codes 511140, 512230, and 519130); 54—Professional, Scientific, and Technical Services (except for NAICS Code 541712); 56—Administrative and Support and Waste Management and Remediation Services (except for NAICS Codes 562112, 562211, 562213, 562219, and 562920); and 81—Other Services (except Public Administration) (except for NAICS Code 811490).

To determine whether you or your business is affected by this action, you should carefully examine the applicability provisions at 40 CFR Part 350 and 40 CFR Part 372. If you have any questions regarding the applicability of this action to a particular entity, consult the person(s) listed in the FOR FURTHER INFORMATION CONTACT section.

II. How Can I Get Copies of This Document and Other Related Information?

A. Docket. EPA has established an official public docket for this action under Docket ID No. EPA-HQ-TRI-2009-0614. The public docket includes information considered by EPA in developing this action, including the documents listed below, which are physically located in the docket. In addition, interested parties should consult documents that are referenced in the documents that EPA has placed in the docket, regardless of whether these referenced documents are physically located in the docket. For assistance in locating documents that are referenced in documents that EPA has placed in the docket, but that are not physically located in the docket, please consult the person listed in the preceding FOR FURTHER INFORMATION CONTACT section. Although a part of the official docket, the public docket does not include Confidential Business Information (CBI) or other information whose disclosure is restricted by statute. The official public docket is the collection of materials that is available for public viewing at the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1742, and the telephone number for the Notice of Change of Contractor Handling TRI Submissions including TRI Trade Secret Claims Docket is (202) 566-1752.

B. Electronic Access. You may access this Federal Register document electronically through the EPA Internet under the Federal Register listings at http://www.epa.gov/fedrgstr/. An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit II.A. Once in the system, select “search,” then key in the appropriate docket identification number.

III. How Can I Respond to This Notice?

A. How and To Whom Do I Submit Comments? You may submit comments through the mail, in person, or electronically. Be sure to identify the appropriate docket control number (i.e., EPA-HQ-TRI-2009-0614) in your correspondence. 1. By mail. All comments should be sent in triplicate to: Office of Environmental Information (OEI/TRI), Environmental Protection Agency, Mailcode: 2822T, 1200 Pennsylvania Ave., NW., Ariel Rios Building, Washington, DC 20460. 2. In person or by courier. Comments may be delivered in person or by courier to: EPA Docket Center, (EPA/DC) EPA West, Room B102, 1301 Constitution Ave., NW., Washington, DC. The DCO is open from 8 a.m. to 4 p.m., Monday through Friday, excluding legal holidays. The telephone number for the DCO is (202) 260-7093. 3. Electronically. Submit your comments electronically by e-mail to: “oei.docket@epa.gov”. Please note that you should not submit any information electronically that you consider to be CBI. Electronic comments must be submitted as an ASCII file avoiding the use of special characters and any form of encryption. Comments and data will also be accepted on standard computer disks in Microsoft Office Word 2003 or ASCII file format. All comments and data in electronic form must be identified by the docket control number EPA-HQ-TRI-2009-0614. Electronic comments on this document may also be filed online at many Federal Depository Libraries.

B. How Should I Handle CBI Information That I Want To Submit to the Agency? All comments which contain information claimed as CBI must be clearly marked as such. Three sanitized copies of any comments containing information claimed as CBI must also be submitted and will be placed in the public record for this document. Persons submitting information on any portion of which they believe is entitled to treatment as CBI by EPA must assert a business confidentiality claim in accordance with 40 CFR 2.203(b) for each such portion. This claim must be made at the time that the information is submitted to EPA. If a submitter does not assert a confidentiality claim at the time of submission, EPA will consider this as a waiver of any confidentiality claim and the information may be made available to the public by EPA without further notice to the submitter.

IV. What Is the General Background for This Action?

A. Trade Secret. The Toxics Release Inventory (TRI) is mandated by the Emergency Planning and Community Right-to-Know Act of 1986 (EPCRA) and the Pollution Prevention Act (PPA) of 1990. EPCRA Section 313 and PPA Section 6607 establish requirements for reporting of toxic chemical releases and other waste management quantities. Under Section 322 of EPCRA and 40 CFR Part 350, facilities submitting TRI reports may be eligible to claim Trade Secret for the specific chemical identity of the toxic chemical being reported. To support a claim of trade secrecy, a facility may need to submit additional confidential business information. Pursuant to 40 CFR 350.23 (“Disclosure to Authorized Representatives”), information entitled to trade secret or confidential treatment may not be disclosed by the Agency to the Agency's authorized representative until each affected submitter has been furnished notice of the contemplated disclosure by the EPA program office and has been afforded a period found reasonable by that office (not less than five working days) to submit its comments. Such notice shall include a description of the information to be disclosed, the identity of the contractor, subcontractor, or grantee, the contract, subcontract, or grant number, if any, and the purposes to be served by the disclosure. This notice may be published in the Federal Register or may be sent to individual submitters.

V. This Notice Announces a Change of Contractor Designated To Manage the Toxics Release Inventory (TRI) Data Processing for All TRI Submissions

The contract to manage the TRI data submissions was competed in 2001 and was awarded to the Computer Sciences Corporation (CSC) (GSA Contract GSOOT99ALD0203). This contract will end September 30, 2009. A new contract was awarded to CGI, Incorporated (GS-35F4797H TO#1518) on April 1, 2009. The management of TRI data submissions will transition to CGI by the end of September 2009 and remain with CGI through March 30, 2012. This new facility will be located in Fairfax, Virginia.

Effective July 30, 2009, certified mail should be sent to CGI Federal, C/O CDX Reporting Center, 12601 Fair Lakes Circle, Fairfax, VA 22033. All other submissions should be sent to the TRI Reporting Center, P.O. Box 10163, Fairfax, VA 22038. All TRI submissions including trade secret and confidential information submitted pursuant to 40 CFR Part 350 will be managed by CGI.

In accordance with 40 CFR 350.23, EPA has determined that CGI and their subcontractors require access to trade secret and confidential information submitted under 40 CFR Part 350 in order to receive, manage, process, and safely store such information. The contractor will have appropriate procedures and facilities in place to safeguard the TRI trade secret and confidential information to which the contractor and subcontractors have access during the term of this contract. The contractor's and subcontractor's employees will be required to sign a “Confidentiality Agreement” prior to being permitted access to trade secret and confidential information submitted under 40 CFR Part 350. All contractor and subcontractor access to TRI trade secret and confidential information will take place at the contractor's facility in Fairfax, VA.

Dated: August 10, 2009.
Rick Martin,
Acting Director, Office of Information Analysis and Access.

[FR Doc. E9-20397 Filed 8-24-09; 8:45 am]

BILLING CODE 6560-50-P